DEPARTMENT OF TRANSPORTATION

Federal Aviation Administration

14 CFR Part 39

[Docket No. FAA-2005-22586; Directorate Identifier 2002-NM-258-AD; Amendment 39-14315; AD 2005-20-19]

RIN 2120-AA64

Airworthiness Directives; BAE Systems (Operations) Limited Model ATP Airplanes

AGENCY: Federal Aviation Administration (FAA), Department of Transportation (DOT).

ACTION: Final rule; request for comments.

SUMMARY: The FAA is adopting a new airworthiness directive (AD) for all BAE Systems (Operations) Limited Model ATP airplanes. This AD requires one-time inspections for corrosion of the engine sub-frame tubes in zone 1 and of the engine attachment struts in zone 5, and corrective action if necessary. This AD results from reports of reduced thickness in localized areas of the engine sub-frame tubes due to corrosion, and reports that corrosion may also exist in the engine attachment struts in zone 5. We are issuing this AD to prevent failure of the engine sub-frame tubes or the engine attachment struts, which could result in separation of an engine from the airplane.

DATES: This AD becomes effective October 21, 2005.

The Director of the Federal Register approved the incorporation by reference of certain publications listed in the AD as of October 21, 2005.

We must receive comments on this AD by December 5, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact British Aerospace Regional Aircraft American Support, 13850 Mclearen Road, Herndon, Virginia 20171, for service information identified in this AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Discussion

The Civil Aviation Authority (CAA), which is the airworthiness authority for the United Kingdom, notified us that an unsafe condition may exist on all BAE Systems (Operations) Limited Model ATP airplanes. The CAA advises that there have been reports indicating reduced thickness in localized areas of the engine sub-frame tubes due to corrosion. Such corrosion may also exist in the engine attachment struts in zone 5. This condition, if not corrected, could result in failure of the engine sub-frame tubes or the engine attachment struts, and consequent separation of an engine from the airplane.

Relevant Service Information

BAE Systems (Operations) Limited has issued Service Bulletins ATP-54-18 and ATP-54-19, both dated March 2, 2001. Service Bulletin ATP-54-18 describes procedures for performing an X-ray (radiographic) inspection for corrosion of the engine sub-frame tubes in Zone 1, and doing corrective action if necessary. Service Bulletin ATP-54-19 describes procedures for performing an X-ray (radiographic) inspection for corrosion of the engine attachment struts in Zone 5, and doing corrective action if necessary. If corrosion is found, the service bulletins specify that the corrective action is installing a serviceable component, or contacting the manufacturer for instructions on repairing corroded components.

Accomplishing the actions specified in the service information is intended to adequately address the unsafe condition. The CAA mandated the service information and issued British airworthiness directives 006-03-2001 (mandating Service Bulletin ATP-54-18) and 007-03-2001 (mandating Service Bulletin ATP-54-19) to ensure the continued airworthiness of these airplanes in the United Kingdom.

FAA's Determination and Requirements of This AD

This airplane model is manufactured in the United Kingdom and is type certificated for operation in the United States under the provisions of section 21.29 of the Federal Aviation Regulations (14 CFR 21.29) and the applicable bilateral airworthiness agreement. Pursuant to this bilateral airworthiness agreement, the CAA has kept the FAA informed of the situation described above. We have examined the CAA's findings, evaluated all pertinent information, and determined that we need to issue an AD for products of this type design that are certificated for operation in the United States.

Therefore, we are issuing this AD to prevent failure of the engine sub-frame tubes or the engine attachment struts, which could result in separation of an engine from the airplane. This AD requires accomplishing the actions specified in the service information described previously, except as discussed under “Differences Among the AD, British Airworthiness Directives, and Service Bulletins.”

Differences Among the AD, British Airworthiness Directives, and Service Bulletins

British airworthiness directives 006-03-2001 and 007-03-2001 specify that compliance is required no later than August 31, 2002. We do not use calendar dates to establish compliance times in our ADs. In developing an appropriate compliance time for this AD, we considered the CAA's and the manufacturer's recommendations, and the degree of urgency associated with the subject unsafe condition. In light of these factors, we find that a compliance time of 180 days after the effective date of this AD represents an appropriate interval of time for affected airplanes to continue to operate without compromising safety. This difference has been coordinated with the CAA.

The service bulletins specify that, in lieu of replacing a corroded component with a serviceable component, operators may contact the manufacturer for information on the “serviceability” of corroded components. If any corrosion is found, this AD requires, before further flight, replacing the corroded component with a serviceable component, or repairing the corroded component using a method that we or the CAA (or its delegated agent) approve. In light of the type of repair that would be required to address the unsafe condition, and consistent with existing bilateral airworthiness agreements, we have determined that, for this AD, a repair we or the CAA approve would be acceptable for compliance with the repair provision of this AD.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, the required actions would take about 7 work hours per airplane, at an average labor rate of $65 per work hour. Based on these figures, the estimated cost of the AD would be $455 per airplane.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to an address listed in the ADDRESSES section. Include “Docket No. FAA-2005-22586; Directorate Identifier 2002-NM-258-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the National Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-20-19 BAE Systems (Operations) Limited (Formerly British Aerospace Regional Aircraft): Amendment 39-14315. Docket No. FAA-2005-22586; Directorate Identifier 2002-NM-258-AD.

Effective Date

(a) This AD becomes effective October 21, 2005.

Affected ADs

(b) None.

Applicability

(c) This AD applies to all BAE Systems (Operations) Limited Model ATP airplanes, certificated in any category.

Unsafe Condition

(d) This AD results from reports of reduced thickness in localized areas of the engine sub-frame tubes due to corrosion, and reports that corrosion may also exist in the engine attachment struts in zone 5. The FAA is issuing this AD to prevent failure of the engine sub-frame tubes or the engine attachment struts, which could result in separation of an engine from the airplane.

Compliance

(e) You are responsible for having the actions required by this AD performed within the compliance times specified, unless the actions have already been done.

Inspections

(f) Within 180 days after the effective date of this AD, perform X-ray (radiographic) inspections for corrosion of the engine sub-frame tubes in Zone 1 and the engine attachment struts in Zone 5, in accordance with the Accomplishment Instructions of BAE Systems (Operations) Limited Service Bulletins ATP-54-18 and ATP-54-19, both dated March 2, 2001. Although the service bulletins referenced in this AD specify to submit inspection results to the manufacturer, this AD does not require that action.

Corrective Action

(g) If any corrosion is found during the inspections required by paragraph (f) of this AD: Before further flight, replace the corroded component with a serviceable component, in accordance with the Accomplishment Instructions of BAE Systems (Operations) Limited Service Bulletins ATP-54-18 and ATP-54-19, both dated March 2, 2001; or repair the corroded component in accordance with a method approved by either the Manager, International Branch, ANM-116, Transport Airplane Directorate, FAA; or the Civil Aviation Authority (or its delegated agent).

Alternative Methods of Compliance (AMOCs)

(h)(1) The Manager, International Branch, ANM-116, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(i) British airworthiness directives 006-03-2001 and 007-03-2001 also address the subjects of this AD.

Material Incorporated by Reference

(j) You must use BAE Systems (Operations) Limited Service Bulletin ATP-54-18, dated March 2, 2001; and BAE Systems (Operations) Limited Service Bulletin ATP-54-19, dated March 2, 2001; to perform the actions that are required by this AD, unless the AD specifies otherwise. The Director of the Federal Register approved the incorporation by reference of these documents in accordance with 5 U.S.C. 552(a) and 1 CFR part 51. Contact British Aerospace Regional Aircraft American Support, 13850 Mclearen Road, Herndon, Virginia 20171, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on September 26, 2005.
Ali Bahrami,
Manager, Transport Airplane Directorate, Aircraft Certification Service.

[FR Doc. 05-19832 Filed 10-5-05; 8:45 am]

BILLING CODE 4910-13-P